CORPORATION FOR NATIONAL AND COMMUNITY SERVICE

Sunshine Act Notice

The Board of Directors of the Corporation for National and Community Service gives notice of the following meeting:

Date and Time: Tuesday, May 21, 2002, 9:30 a.m.-12:30 p.m.

Place: John F. Kennedy School of Government, 79 John F. Kennedy Street (Harvard Square), Cambridge, MA 02183.

Status: Open.

Matters to be Considered:

I. Chair's Opening Remarks.

II. Consideration of Prior Meeting's Minutes.

III. Legislative and future management actions related to the Administration's ‘Principles and Reforms for a Citizen Service Act: Fostering a Culture of Service, Citizenship, and Responsibility'.

IV. Social Capital and Civic Engagement.

V. Learn and Serve presentation.

VI. MA Service Alliance.

VII. National Ten Point Leadership Foundation.

Accommodations: Anyone who needs an interpreter or other accommodation should notify the Corporation's contact person.

CONTACT PERSON FOR FURTHER INFORMATION: Ms. Michele Tennery, Senior Associate, Corporation for National and Community Service, 8th Floor, Room 8513, 1201 New York Avenue NW., Washington, DC 20525. Phone (202) 606-5000 ext. 125. Fax (202) 565-2784 TDD: (202) 565-2799. E-mail: MTennery@cns.gov.

Dated: May 10, 2002.
Frank R. Trinity,
General Counsel, Corporation for National and Community Service.

[FR Doc. 02-12095 Filed 5-10-02; 11:30 am]

BILLING CODE 6050-$$-P